DEPARTMENT OF COMMERCE

International Trade Administration

MetroHealth Medical Center; Notice of Decision on Application for Duty-Free Entry of Electron Microscope

This is a decision pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-006.

Applicant: MetroHealth Medical Center, Cleveland, OH 44109-1998.

Instrument: Electron Microscope, Model Tecnai G² 12 TWIN.

Manufacturer: FEI Company, The Netherlands.

Intended Use: See notice at 68 FR 8210.

Order Date: December 23, 2002.

Comments: None received.

Decision: Approved. No instrument of equivalent scientific value to the foreign instrument, for such purposes as the instrument is intended to be used, was being manufactured in the United States at the time the instrument was ordered.

Reasons: The foreign instrument is a conventional transmission electron microscope (CTEM) and is intended for research or scientific educational uses requiring a CTEM. We know of no CTEM, or any other instrument suited to these purposes, which was being manufactured in the United States at the time of order of the instrument.

Gerald A. Zerdy,
Program Manager, Statutory Import Programs Staff.

[FR Doc. 03-6932 Filed 3-21-03; 8:45 am]

BILLING CODE 3510-DS-P